DEPARTMENT OF THE INTERIOR

National Park Service

[NPS-WASO-NRNHL-DTS#-30613; PPWOCRADI0, PCU00RP14.R50000]

National Register of Historic Places; Notification of Pending Nominations and Related Actions

AGENCY: National Park Service, Interior.

ACTION: Notice.

SUMMARY: The National Park Service is soliciting electronic comments on the significance of properties nominated before July 11, 2020, for listing or related actions in the National Register of Historic Places.

DATES: Comments should be submitted electronically by August 12, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before July 11, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

MASSACHUSETTS

Suffolk County

Malcolm X-Ella Little Collins House, 72 Dale St., Boston, SG100005455

NEW YORK

Dutchess County

Hopewell Junction Depot, 36 Railroad Ave., Hopewell Junction, SG100005449

Erie County

Barcalo Manufacturing Company Factory, 225 Louisiana St., Buffalo, SG100005457

University Heights-Summit Park-Berkshire Terrace Historic District, Portions of East Amherst St., Northrup Pl., Berkshire, Comstock, Cordova, Dartmouth, Dunlop, Hewett, Highgate, LaSalle, Lisbon, Minnesota, Parkridge, Shirley, Stockbridge and Winspear Aves., Buffalo, SG100005458

South Side Bank of Buffalo, 2221 Seneca St., Buffalo, SG100005463

Herkimer County

Cedar Lake Methodist Episcopal Church, 548 Goodier Rd., Cedar Lake, SG100005464

Kings County

Bay Ridge Reformed Church, 7915 Ridge Blvd., Brooklyn, SG100005438

Rugby Congregational Church, 4901 Snyder Ave., Brooklyn, SG100005439

Oneida County

Uptown Theatre, 2014 Genesee St., Utica, SG100005466

Suffolk County

Cerny's Bakery, 1165 Smithtown Ave., Bohemia, SG100005450

Ulster County

Held, Al, House and Studio, 26 Beechford Dr., Boiceville, SG100005440

Deyo-Dubois House, 161 Vineyard Ave., Highland, SG100005451

De Meyer-Burhans-Felten Farm, 81-101 Bogert Ln., Ulster, SG100005452

Hardenbergh-Jenkins Farm, 128 Crispell Ln., Gardiner, SG100005453

OHIO

Franklin County

Knights of Columbus Building, 80 South 6th St./306 East State St., Columbus, SG100005448

Market-Mohawk Center, 250 East Town St., Columbus, SG100005454

Hamilton County

Warsaw Avenue Historic District, 3104-3220 Warsaw Ave., Cincinnati, SG100005462

TEXAS

Denton County

John B. Denton College Neighborhood Historic District, Roughly bounded by West Hickory St., Panhandle St., Carroll Blvd., and Ponder Ave., Denton, SG100005459

Travis County

McFarland House, 3805 Red River St., Austin, SG100005460

Wilson County

Floresville Chronicle-Journal Building, 1000 C St., Floresville, SG100005461

VIRGINIA

Lynchburg Independent City

Carnegie Hall, 1501 Lakeside Dr., Lynchburg, SG100005441

Madison County

Coates Barn, 934 Champe Plain Rd., Etlan vicinity, SG100005442

Newport News Independent City

Walker-Wilkins-Bloxom Warehouse Historic District, 208-218 23rd St., Newport News, SG100005443

Page County

Almond, 2620 US 340 North, Luray, SG100005444

WYOMING

Teton County

Darwin Ranch, (Ranches, Farms, and Homesteads in Wyoming, 1860-1960 MPS), 1 Kinky Creek Rd., Cora vicinity, MP100005445

Nominations submitted by Federal Preservation Officers:

The State Historic Preservation Officer reviewed the following nominations and responded to the Federal Preservation Officer within 45 days of receipt of the nominations and supports listing the properties in the National Register of Historic Places.

CALIFORNIA

Los Angeles County

Federal Building, 11000 Wilshire Blvd., Los Angeles vicinity, SG100005446

MONTANA

Carbon County

Sage Creek Ranger Station, Custer Gallatin NF, Sage Creek Guard Station Rd. 2223, Pryor Mts., Bridger vicinity, SG100005456

WYOMING

Lincoln County

Gateway, Address Restricted, La Barge vicinity, SG100005447

(Authority: Section 60.13 of 36 CFR part 60)

Dated: July 14, 2020.
Sherry A. Frear,
Chief, National Register of Historic Places/National Historic Landmarks Program.

[FR Doc. 2020-16294 Filed 7-27-20; 8:45 am]

BILLING CODE 4312-52-P